DEPARTMENT OF COMMERCE

Membership of the Performance Review Board for the Office of the Secretary

AGENCY: Office of the Secretary, Department of Commerce.

ACTION: Notice of membership on the Office of the Secretary Performance Review Board.

SUMMARY: The Office of the Secretary, the Department of Commerce (DOC), announces the appointment of those individuals who have been selected to serve as members of the Performance Review Board. The Performance Review Board is responsible for reviewing performance appraisals and ratings of Senior Executive Service (SES) members and Senior Level (SL) members and making recommendations to the appointing authority on other performance management issues, such as pay adjustments, bonuses and Presidential Rank Awards. The appointment of these members to the Performance Review Board will be for a period of twenty-four (24) months.

DATES: The period of appointment for those individuals selected for the Office of the Secretary Performance Review Board begins on October 22, 2021.

FOR FURTHER INFORMATION CONTACT: Christine Covington, U.S. Department of Commerce, Office of Human Resources Management, Office of Executive Resources, 14th and Constitution Avenue NW, Room 50013, Washington, DC 20230, at (202) 482-2613.

SUPPLEMENTARY INFORMATION: In accordance with 5 U.S.C. 4314 (c) (4), the Office of the Secretary, Department of Commerce (DOC), announces the appointment of those individuals who have been selected to serve as members of the Office of the Secretary Performance Review Board. The Performance Review Board is responsible for (1) reviewing performance appraisals and ratings of Senior Executive Service (SES) and (SL) members and (2) making recommendations to the appointing authority on other performance management issues, such as pay adjustments, bonuses and Presidential Rank Awards. The appointment of these members to the Performance Review Board will be for a period of twenty-four (24) months.

The name, position title, and type of appointment of each member of the Performance Review Board are set forth below:

1. Olivia Bradley, Deputy for Procurement Management, Policy and Performance Excellence, OS Career SES

2. Stephanie Sykes, Director of Intergovernmental Affairs, OS Non-Career SES

3. Terri Ware, Deputy Chief Information Officer for Policy and Business Management, OS Career SES

4. John Guenther, Associate Deputy General Counsel, OS, Career SES

5. Alex Villanueva, Senior Director, ITA, Career SES

6. Teresa Coppolino, Director, Financial Management Systems, OS, Career SES

7. Brian DiGiacomo, Assistant General Counsel for Employment, Litigation, and Information Law, OGC, Career SES

8. Cynthia Aragon Deputy Assistant Secretary for Industry and Analysis, ITA, Non-Career SES

9. Kevin Kurland, Deputy Assistant Secretary for Export Enforcement, BIS, Career SES

10. Jon Alexander, Deputy Director, Office of Financial Management, OS Career SES

11. Melissa Skinner, Senior Director, AD/CVD Enforcement Office VII, ITA Career SES

12. Scot Fullerton, Association Deputy Assistant Secretary for AD/VDC Operations, ITA Career SES

Dated: October 19, 2021.
Christine Covington,
Human Resources Specialist, Office of Executive Resources, Office of Human Resources Management.

[FR Doc. 2021-23055 Filed 10-21-21; 8:45 am]

BILLING CODE 3510-DS-P